SMALL BUSINESS ADMINISTRATION

13 CFR Ch. I

Semiannual Regulatory Agenda

AGENCY: U.S. Small Business Administration (SBA).

ACTION: Semiannual Regulatory Agenda.

SUMMARY: This Regulatory Agenda is a semiannual summary of all current and projected rulemakings, existing regulations, and completed actions of the Small Business Administration (SBA). For this fall edition of the SBA's Regulatory Agenda, a Regulatory Plan that contains a list of the Agency's most important and significant regulatory actions and a Statement of Regulatory Priorities is also included. This plan appears in both the online Unified Agenda and in part II of the Federal Register editions that includes the abbreviated Unified Agenda.

This agenda provides the public with information about SBA's regulatory activity. SBA invites the public to submit comments on any aspect of this Agenda. SBA expects that providing early information about pending regulatory activities would encourage more effective public participation in this process.

FOR FURTHER INFORMATION CONTACT: General: Please direct general comments or inquiries to Imelda A. Kish, Law Librarian, U.S. Small Business Administration, 409 Third Street SW., Washington, DC 20416, (202) 205-6849, imelda.kish@sba.gov.

Specific: Please direct specific comments and inquiries on individual regulatory activities identified in this agenda to the individual listed in the summary of the regulation as the point of contact for that regulation.

SUPPLEMENTARY INFORMATION: SBA provides this notice under the requirements of the Regulatory Flexibility Act, 5 U.S.C. sections 601 to 612 and Executive Order 12866, “Regulatory Planning and Review,” which require each agency to publish a semiannual agenda of regulations. The Regulatory Agenda is a summary of all current and projected rulemakings during the coming one-year period, as well as actions completed since the publication of the last Regulatory Agenda for the Agency.

Beginning with the fall 2007 edition, the Internet became the basic means for disseminating the Unified Agenda. The complete Unified Agenda will be available online at www.reginfo.gov in a format that greatly enhances a user's ability to obtain information about the rules in the agency's Agenda.

The Regulatory Flexibility Act (RFA) also requires Federal agencies to publish their regulatory flexibility agendas in the Federal Register. A regulatory flexibility agenda contains only those rules listed in the semi-annual agenda that are likely to have a significant economic impact on a substantial number of small entities, and those rules identified for periodic review in keeping with the requirements of section 610 of the RFA. This regulatory flexibility agenda may be combined with any other agenda. Therefore, SBA's Fall 2013 Regulatory Agenda includes, as a subset, those regulatory actions that are in the SBA's regulatory flexibility agenda. Printing of these entries is limited to fields that contain information required by the RFA requirements. Additional information on these entries is available in the Unified Agenda published on the Internet.

Jeanne A. Hulit,
Acting Administrator.

Small Business Administration—Proposed Rule Stage
Sequence No. | Title | Regulation Identifier No.
396 | Small Business Development Centers (SBDC) Program Revisions | 3245-AE05
397 | SBA Express Loan Program; Export Express Program | 3245-AF85
398 | Implementation of Small Business Disaster Response and Loan Improvement Act of 2008: Expedited Disaster Assistance Program | 3245-AF88
399 | Implementation of Small Business Disaster Response and Loan Improvement Act of 2008: Private Loan Disaster Program | 3245-AF99
400 | Women's Business Center Program | 3245-AG02
401 | Small Business Size Standards; Alternative Size Standard for 7(a), 504, and Disaster Loan Programs | 3245-AG16
402 | Small Business Mentor-Protege Programs (Reg Plan Seq No. 141) | 3245-AG24
403 | Small Business HUBZone Program | 3245-AG38
404 | Agent Revocation and Suspension Procedures | 3245-AG40
405 | Small Business Size Standards: Employee Based Size Standards for Wholesale Trade and Retail Trade | 3245-AG49
406 | Small Business Size Standards for Manufacturing | 3245-AG50
407 | Small Business Size Standards for Other Industries With Employee-Based Size Standards Not Part of Manufacturing Wholesale Trade or Retail Trade | 3245-AG51
408 | National Defense Authorization Act Small Business Amendments | 3245-AG58
409 | Advisory Small Business Size Decisions | 3245-AG59
References in boldface appear in The Regulatory Plan in part II of this issue of the Federal Register.

Small Business Administration—Final Rule Stage
Sequence No. | Title | Regulation Identifier No.
410 | Lender Oversight Program | 3245-AE14
411 | Small Business Technology Transfer (STTR) Policy Directive (Reg Plan Seq No. 142) | 3245-AF45
412 | Small Business Innovation Research (SBIR) Program Policy Directive (Reg Plan Seq No. 143) | 3245-AF84
413 | 504 and 7(a) Loan Programs Updates (Reg Plan Seq No. 144) | 3245-AG04
414 | Small Business Size Standards for Utilities | 3245-AG25
415 | Small Business Size Standards: Construction | 3245-AG37
416 | Small Business Size Standards; Adjust Monetary Size Standards for Inflation | 3245-AG60
References in boldface appear in The Regulatory Plan in part II of this issue of the Federal Register.

Small Business Administration—Completed Actions
Sequence No. | Title | Regulation Identifier No.
417 | Acquisition Process: Task and Delivery Order Contracts, Bundling, Consolidation | 3245-AG20
418 | Small Business Subcontracting | 3245-AG22
419 | Small Business Size and Status Integrity | 3245-AG23

SMALL BUSINESS ADMINISTRATION (SBA)

Proposed Rule Stage

396. Small Business Development Centers (SBDC) Program Revisions

Legal Authority: 15 U.S.C. 634(b)(6); 15 U.S.C. 648

Abstract: This rule would update Small Business Development Center (SBDC) program regulations by amending among other things: (1) Procedures for approving and funding of SBDCs; (2) approval procedures for travel outside the continental U.S. and U.S. territories; (3) procedures and requirements regarding findings and disputes resulting from financial exams, programmatic reviews, accreditation reviews, and other SBA oversight activities; (4) requirements for new and renewal applications for SBDC awards, including the requirements for electronic submission through the approved electronic Government submission facility; and (5) provisions regarding the collection and use of individual SBDC client data.

Timetable:

Action | Date | FR Cite
NPRM | 06/00/14 |

Regulatory Flexibility Analysis Required: Yes.

Agency Contact: John C. Lyford, Deputy Associate Administrator, Office of Small Development Centers, Small Business Administration, 409 Third Street SW., Washington, DC 20416, Phone: 202 205-7159, Fax: 202 481-2613, Email: chancy.lyford@sba.gov.

RIN: 3245-AE05

397. SBA Express Loan Program; Export Express Program

Legal Authority: 15 U.S.C. 636(a)(31) and (35)

Abstract: SBA plans to issue regulations for the SBA Express loan program codified in section 7(a)(31) of the Small Business Act. The SBA Express loan program reduces the number of Government mandated forms and procedures, streamlines the processing and reduces the cost of smaller, less complex SBA loans. Particular features of the SBA Express loan program include: (1) SBA Express loans carry a maximum SBA guaranty of 50 percent; (2) a response to an SBA Express loan application will be given within 36 hours; (3) lenders and borrowers can negotiate the interest rate, which may not exceed SBA maximums; and (4) qualified lenders may be granted authorization to make eligibility determinations. SBA also plans to issue regulations for the Export Express Program codified at 7(a)(35) of the Small Business Act. The Export Express Program, made permanent by the Small Business Jobs Act, makes guaranteed financing available for export development activities.

Timetable:

Action | Date | FR Cite
NPRM | 05/00/14 |

Regulatory Flexibility Analysis Required: Yes.

Agency Contact: Michael A. Simmons, Acting Director, Office of Financial Assistance, Small Business Administration, 409 Third Street SW., Washington, DC 20416, Phone: 202 205-7562, Fax: 202 481-0248, Email: michael.simmons@sba.gov.

RIN: 3245-AF85

398. Implementation of Small Business Disaster Response and Loan Improvement Act of 2008: Expedited Disaster Assistance Program

Legal Authority: 15 U.S.C. 636(j)

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 03/00/14 |

Regulatory Flexibility Analysis Required: Yes.

Agency Contact: Michael A. Simmons, Acting Director, Office of Financial Assistance, Small Business Administration, 409 Third Street SW., Washington, DC 20416, Phone: 202 205-7562, Fax: 202 481-0248, Email: michael.simmons@sba.gov.

RIN: 3245-AF88

399. Implementation of Small Business Disaster Response and Loan Improvement Act of 2008: Private Loan Disaster Program

Legal Authority: 15 U.S.C. 636

Abstract: This proposed rule would establish and implement a private disaster loan program under which SBA will guarantee loans made by qualified lenders to eligible small businesses and homeowners located in a catastrophic disaster area. Private disaster loans made under this programs will have the same terms and conditions as SBA's direct disaster loans. In addition, SBA will guarantee timely payment of principal and interest to the lender. SBA may guarantee up to 85 percent of any loan under this program and the maximum loan amount is $2 million.

Timetable:

Action | Date | FR Cite
NPRM | 03/00/14 |

Regulatory Flexibility Analysis Required: Yes.

Agency Contact: Michael A. Simmons, Acting Director, Office of Financial Assistance, Small Business Administration, 409 Third Street SW., Washington, DC 20416, Phone: 202 205-7562, Fax: 202 481-0248, Email: michael.simmons@sba.gov.

RIN: 3245-AF99

400. Women's Business Center Program

Legal Authority: 15 U.S.C. 631; 15 U.S.C. 656

Abstract: SBA's Office of Women's Business Ownership (OWBO) oversees a network of SBA-funded Women's Business Centers (WBCs) throughout the United States and its territories. WBCs provide management and technical assistance to small business concerns both nascent and established, with a focus on such businesses that are owned and controlled by women, or on women planning to start a business, especially women who are economically or socially disadvantaged. The training and counseling provided by the WBCs encompass a comprehensive array of topics, such as finance, management and marketing in various languages. This rule would propose to codify the requirements and procedures that govern the delivery, funding and evaluation of the management and technical assistance provided under the WBC Program. The rule would address, among other things, the eligibility criteria for selection as a WBC, use of Federal funds, standards for effectively carrying out program duties and responsibilities, and the requirements for reporting on financial and programmatic performance.

Timetable:

Action | Date | FR Cite
NPRM | 06/00/14 |

Regulatory Flexibility Analysis Required: Yes.

Agency Contact: Bruce D. Purdy, Acting Assistant Administrator, Office of Women's Business Ownership, Small Business Administration, Washington, DC 20416, Phone: 202 205-7532, Email: bruce.purdy@sba.gov.

RIN: 3245-AG02

401. Small Business Size Standards; Alternative Size Standard for 7(A), 504 and Disaster Loan Programs

Legal Authority: Pub. L. 111-240, sec 1116

Abstract: SBA will amend its size eligibility criteria for Business Loans, development company loans under title V of the Small Business Investment Act (504), and economic injury disaster loans. For the SBA 7(a) Business Loan Program, the amendments will provide an alternative size standard for loan applicants that do not meet the small business size standards for their industries. For the 504 Program, the amendments will increase the current alternative standard for applicants for 504 loans. The Small Business Jobs Act of 2010 (Jobs Act) established alternative size standards that apply to both of these programs until the SBA's Administrator establishes other alternative size standards. For the disaster loan program, the amendments will provide an alternative size standard for loan applicants that do not meet the small business size standards for their industries. These alternative size standards do not affect other Federal Government programs, including Federal procurement.

Timetable:

Action | Date | FR Cite
NPRM | 12/00/13 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG16

402. Small Business Mentor-Protege Programs

Regulatory Plan: This entry is Seq. No. 141 in part II of this issue of the Federal Register.

RIN: 3245-AG24

403. Small Business Hubzone Program

Legal Authority: 15 U.S.C. 657a

Abstract: SBA has been reviewing its processes and procedures for implementing the HUBZone program and has determined that several of the regulations governing the program should be amended in order to resolve certain issues that have arisen. As a result, the proposed rule would constitute a comprehensive revision of part 126 of SBA's regulations to clarify current HUBZone Program regulations, and implement various new procedures. The amendments will make it easier for participants to comply with the program requirements and enable them to maximize the benefits afforded by participation. In developing this proposed rule, SBA will focus on the principles of Executive Order 13563 to determine whether portions of regulations should be modified, streamlined, expanded or repealed to make the HUBZone program more effective and/or less burdensome on small business concerns. At the same time, SBA will maintain a framework that helps identify and reduce waste, fraud, and abuse in the program.

Timetable:

Action | Date | FR Cite
NPRM | 12/00/13 |

Regulatory Flexibility Analysis Required: Yes.

Agency Contact: Mariana Pardo, Director, Office of Hubzone, Small Business Administration, 409 3rd Street SW., Washington, DC 20416, Phone: 202 205-2985, Email: mariana.pardo@sba.gov.

RIN: 3245-AG38

404. Agent Revocation and Suspension Procedures

Legal Authority: Not Yet Determined

Abstract: These changes to 13 CFR sections 103, 134, and 2 CFR 2700 lay out a procedural process for SBA's revocation of the privilege of agents to conduct business with the Agency. Included in this process are procedure for proposed revocation, the opportunity to object to the proposed revocation, the revocation decision, as well as requests for reconsideration. These procedures also provide for suspension of the privilege to conduct business with the Agency pending a revocation action. In addition, these changes remove Office of Hearings and Appeals review of suspension, revocation, and debarment actions by SBA.

Timetable:

Action | Date | FR Cite
NPRM | 12/00/13 |

Regulatory Flexibility Analysis Required: Yes.

Agency Contact: Christopher J. McClintock, Trial Attorney, Small Business Administration, 409 3rd Street SW., Washington, DC 20416, Phone: 202 205-7715, Email: christoper.mcclintock@sba.gov.

RIN: 3245-AG40

405. Small Business Size Standards: Employee Based Size Standards for Wholesale Trade and Retail Trade

Legal Authority: 15 U.S.C. 632(a)

Abstract: SBA is conducting a comprehensive review of all small business size standards to determine whether the existing size standards should be retained or revised. As part of this effort, SBA has evaluated each industry in North American Industry Classification System (NAICS) Sector 42, Wholesale Trade, and Sector 44-45, Retail Trade and revised these employee-based size standards for certain industries in those sectors. This is one of the rules that will examine industries grouped by an NAICS Sector. SBA has applied its “Size Standards Methodology,” which is available on its Web site at http://www.sba.gov/size, to this purposed rule.

Note: The title for this rule has been changed since the rule was first reported in the Regulatory Agenda on January 8, 2013, from “Small Business Size Standards for Wholesale Trade” to “Small Business Size Standards: Employee Based Size Standards for Wholesale Trade and Retail Trade.” The title was changed to make it clear that the rule also addresses industries with employee based size standards in Retail Trade.

Timetable:

Action | Date | FR Cite
NPRM | 12/00/13 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG49

406. Small Business Size Standards for Manufacturing

Legal Authority: 15 U.S.C. 632(a)

Abstract: SBA is conducting a comprehensive review of all small business size standards to determine whether the existing size standards should be retained or revised. As part of this effort, SBA has evaluated each industry in North American Industry Classification System (NAICS) Sector 31-33, Manufacturing, and revised these employee-based size standards for certain industries in the sector. This is one of the rules that will examine industries grouped by an NAICS Sector. SBA has applied its “Size Standards Methodology,” which is available on its Web site at http://www.sba.gov/size, to this proposed rule.

Timetable:

Action | Date | FR Cite
NPRM | 03/00/14 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG50

407. Small Business Size Standards for Other Industries With Employee-Based Size Standards Not Part of Manufacturing Wholesale Trade or Retail Trade

Legal Authority: 15 U.S.C. 632(a)

Abstract: SBA is conducting a comprehensive review of all small business size standards to determine whether the existing size standards should be retained or revised. As part of this effort, SBA has evaluated each industry that has an employee-based standard but is not part of North American Industry Classification System (NAICS) Sector 31-33, Manufacturing, Sector 42, Wholesale Trade, or Sector 44-45, Retail Trade and revised size standards for some of those industries. This is one of the rules that will examine industries grouped by an NAICS Sector. SBA has applied its “Size Standards Methodology,” which is available on its Web site at http://www.sba.gov/size, to this proposed rule.

Please Note: The title for this rule has been changed since it was first announced in the Regulatory Agenda on January 8, 2013, to add the words “or Retail Trade” at the end of the previous title. This change makes it clear that industries in the retail trade with employee based size standards are also not addressed in the rule.

Timetable:

Action | Date | FR Cite
NPRM | 03/00/14 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG51

408. National Defense Authorization Act Small Business Amendments

Legal Authority: 15 U.S.C. 631; Pub. L. 112-239

Abstract: The rule would propose various small business related amendments authorized by various sections of the NDAA. Section 1651, Limitations on Subcontracting, requires rules permitting subcontracts to small businesses that are “similarly situated” as the prime contractor to count toward the prime contractors compliance with the performance of work requirements that apply to set-aside contracts. It also requires rules that permit small businesses to “team” without entering into joint venture agreements, which will reduce litigation risk for small businesses and open larger, more complex acquisitions to small business participation. Section 1652, Penalties, requires rules establishing penalties for violations of subcontracting limitations and providing protection for small businesses that made a mistake on their subcontracting limitations in good faith. Section 1671, Contract Bundling, requires a definition for construction to be included under the definition for covered contracting. Section 1696, Conforming Amendments; Repeal of Redundant Provisions; Regulations, a definition for certain technical amendments to the existing rules and provides that a covered base closure area shall be treated as a HUBZone.

Timetable:

Action | Date | FR Cite
NPRM | 02/00/14 |

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG58

409. Advisory Small Business Size Decisions

Legal Authority: 15 U.S.C. 645

Abstract: The purpose of the statute is to provide a “safe harbor” for firms that violate the prohibition against misrepresenting themselves as small businesses in cases where the firms first obtain advisory opinions concluding that they satisfy the relevant size standards from either Small Business Development Centers (SBDCs) (SBA grantees) or Procurement Technical Assistance Centers (PTACs) (DOD grantees). This rule would provide guidance to SBDCs and PTACs regarding the minimum requirements that small business status advisory opinions must meet in order to be deemed adequate by SBA. The rule would also require the SBDC or PTAC issuing the advisory opinion to remit a copy of the opinion to SBA for review, and establish a 10 day deadline by which SBA must either accept or reject the advisory opinion. If SBA rejects the advisory opinion, the Agency will notify the entity which issued the opinion and the firm to which it applies, after which time the firm is no longer entitled to rely upon the opinion or invoke the safe harbor provisions of the statute. If SBA accepts the advisory opinion, then the firm may rely on the SBDC or PTAC advisory opinion and is entitled to invoke the safe harbor provision as a defense to punishments imposed under 15 U.S.C. section 645, Offenses and Penalties, which prescribes fines and imprisonment for false statements. The rule would also make clear that SBA has the authority to initiate a formal size determination of a firm that is the subject of a small business status advisory opinion where the Agency concludes that opinion contains information that calls into question the firm's small business status.

Timetable:

Action | Date | FR Cite
NPRM | 12/00/13 |

Regulatory Flexibility Analysis Required: Yes.

Agency Contact: Kevin Harber, Attorney Advisor, Office of General Counsel, Small Business Administration, 409 Third Street SW., Washington, DC 20416, Phone: 202 619-1602, Email: kevin.harber@sba.gov.

RIN: 3245-AG59

SMALL BUSINESS ADMINISTRATION (SBA)

Final Rule Stage

410. Lender Oversight Program

Legal Authority: 15 U.S.C. 634(b)(6),(b)(7),(b)(14),(h) and note; 687(f),697e(c)(8), and 650

Abstract: This rule implements the Small Business Administration's (SBA) statutory authority under the Small Business Act to regulate Small Business Lending Companies (SBLCs) and non-federally regulated lenders (NFRLs). It also conforms SBA rules for the section 7(a) Business Loan Program and the Certified Development Company (CDC) Program.

In particular, this rule: (1) Defines SBLCs and NFRLs; (2) clarifies SBA's authority to regulate SBLCs and NFRLs; (3) authorizes SBA to set certain minimum capital standards for SBLCs, to issue cease and desist orders, and revoke or suspend lending authority of SBLCs and NFRLs; (4) establishes the Bureau of Premier Certified Lender Program Oversight in the Office of Credit Risk Management; (5) transfers existing SBA enforcement authority over CDCs from the Office of Financial Assistance to the appropriate official in the Office of Capital Access; and (6) defines SBA's oversight and enforcement authorities relative to all SBA lenders participating in the 7(a) and CDC programs and intermediaries in the Microloan program.

Timetable:

Action | Date | FR Cite
NPRM | 10/31/07 | 72 FR 61752
NPRM Comment Period Extended | 12/20/07 | 72 FR 72264
NPRM Comment Period End | 02/29/08
Interim Final Rule | 12/11/08 | 73 FR 75498
Interim Final Rule Comment Period End | 03/11/09
Interim Final Rule Effective | 01/12/09
Final Rule | 06/00/14

Regulatory Flexibility Analysis Required: Yes.

Agency Contact: Brent Ciurlino, Director, Office of Credit Risk Management, Small Business Administration, 409 3rd Street SW., Washington, DC 20416, Phone: 202 205-6538, Email: brent.ciurlino@sba.gov.

RIN: 3245-AE14

411. Small Business Technology Transfer (STTR) Policy Directive

Regulatory Plan: This entry is Seq. No. 142 in part II of this issue of the Federal Register.

RIN: 3245-AF45

412. Small Business Innovation Research (SBIR) Program Policy Directive

Regulatory Plan: This entry is Seq. No. 143 in part II of this issue of the Federal Register.

RIN: 3245-AF84

413. 504 and 7(A) Loan Programs Updates

Regulatory Plan: This entry is Seq. No. 144 in part II of this issue of the Federal Register.

RIN: 3245-AG04

414. Small Business Size Standards for Utilities

Legal Authority: 15 U.S.C. 632(a)

Abstract: On July 19, 2012, the U.S. Small Business Administration (SBA) proposed to revise the small business size standards for nine industries in North American Industry Classification System (NAICS) Sector 22, Utilities. For industries involved in electric power generation, transmission and distribution, SBA proposed to replace the current size standard of 4 million megawatt hours in electric output with an employee based size standard of 500 employees. SBA also proposed to increase the small business size standards for three industries in NAICS Sector 22 that have receipt based size standards. As part of its effort to review all size standards as required by the Small Business Jobs Act of 2010, SBA evaluated all industries in NAICS Sector 22 that have either electric output based or receipts based size standards to determine whether the existing size standards should be retained or revised. The proposed rule is one of the rules that will examine industries grouped by NAICS sector. SBA applied its “Size Standards Methodology,” which is available on its Web site at http://www.sba.gov/size, to prepare the proposed rule. SBA expects to publish the final rule in the near future.

Timetable:

Action | Date | FR Cite
NPRM | 07/19/12 | 77 FR 42441
NPRM Comment Period End | 09/17/12
Final Rule | 12/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG25

415. Small Business Size Standards: Construction

Legal Authority: 15 U.S.C. 632(a)

Abstract: On July 18, 2012, the U.S. Small Business Administration (SBA) published a proposed rule to increase small business size standards for one industry and one sub-industry in North American Industry Classification System (NAICS) Sector 23, Construction. Specifically, SBA proposed to increase the size standard for NAICS 237210, Land Subdivision, from $7 million to $25 million and the size standard for Dredging and Surface Cleanup Activities, a sub-industry category (or an “exception”) under NAICS 237990, Other Heavy and Civil Engineering Construction, from $20 million to $30 million in average annual receipts. As part of its ongoing comprehensive size standards review, SBA evaluated all size standards in NAICS Sector 23 to determine whether they should be retained or revised. The proposed rule is one of the rules that examines size standards of industries grouped by NAICS Sector. SBA has applied its “Size Standards Methodology,” which is available on its Web site at http://www.sba.gov/size, to prepare the proposed rule. SBA expects to publish the final rule in the near future.

Timetable:

Action | Date | FR Cite
NPRM | 07/18/12 | 77 FR 42197
NPRM Comment Period End | 09/17/12
Final Rule | 12/00/13

Regulatory Flexibility Analysis Required: Yes.

Agency Contact: Khem Raj Sharma, Chief, Office of Size Standards, Small Business Administration, 409 Third Street SW., Washington, DC 20416, Phone: 202 205-6390, Fax: 202 205-6390.

RIN: 3245-AG37

416. • Small Business Size Standards; Adjust Monetary Size Standards for Inflation

Legal Authority: 15 U.S.C. 632(a)

Abstract: SBA intends to issue an interim final rule with request for comments to adjust its monetary small business size standards (i.e., receipts, net income, net worth, and financial assets), for the effects of inflation that have occurred since the last inflation adjustment, which was effective August 18, 2008. This action will restore small business eligibility to businesses that have lost that status due to inflation. The Small Business Jobs Act of 2010 requires SBA to review and adjust (as necessary) all size standards within five years of its enactment. By the fourth quarter of FY 2014 SBA will have completed all monetary size standards to the point where it can examine the impact of inflation. In addition, SBA has required by its Small Business Size Regulations at 13 CFR 121.102(c) to review the effects of inflation on its monetary standards at least once every five years, and this interim final rule comply with that regulation.

Timetable:

Action | Date | FR Cite
Interim Final Rule | 01/00/14

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG60

SMALL BUSINESS ADMINISTRATION (SBA)

Completed Actions

417. Acquisition Process: Task and Delivery Order Contracts, Bundling, Consolidation

Legal Authority: Pub. L. 111-240; sec 1311; 1312; 1313; 1331

Abstract: The U.S. Small Business Administration (SBA) is issuing regulations that will establish guidance under which Federal agencies may set aside part of a multiple award contract for small business concerns, set aside orders placed against multiple award contracts for small business concerns, and reserve one or more awards for small business concerns under full and open competition for a multiple award contract. These regulations will apply to small businesses, including those small businesses eligible for SBA's socioeconomic programs. The regulations will also set forth a Governmentwide policy on bundling, which will address teams and joint ventures of small businesses and the requirement that each Federal agency must publish on its Web site the rationale for any bundled contract. In addition, the regulations will address contract consolidation and the limitations on the use of such consolidation in Federal procurement to include ensuring that the head of a Federal agency may not carry out a consolidated contract over $2 million unless the Senior Procurement Executive or Chief Acquisition Officer ensures that market research has been conducted and determines that the consolidation is necessary and justified.

Completed:

Action | Date | FR Cite
Final Rule | 10/02/13 | 78 FR 61114
Final Rule Effective | 12/31/13

Regulatory Flexibility Analysis Required: Yes.

Agency Contact: Dean R. Koppel, Phone: 202 205-7322, Fax: 202 481-1540, Email: dean.koppel@sba.gov.

RIN: 3245-AG20

418. Small Business Subcontracting

Legal Authority: Pub. L. 111-240; sec 1321 and 1322; 1334

Abstract: These regulations address subcontracting compliance and the interrelationship between contracting offices, small business offices, and program offices relating to oversight and review activities. The regulation also addresses the statutory requirement that a large business prime contractor must represent that it will make good faith efforts to award subcontracts to small businesses at the same percentage as indicated in the subcontracting plan submitted as part of its proposal for a contract and that if the percentage is not met, the large business prime contractor must provide a written justification and explanation to the contracting officer. Finally, the regulation also addresses the statutory requirement that a prime contractor must notify the contracting officer in writing if it has paid a reduced price to a subcontractor for goods and services or if the payment to the subcontractor is more than 90 days past due.

Completed:

Action | Date | FR Cite
Final Rule | 07/16/13 | 78 FR 42391
Final Rule Effective | 08/15/13

Regulatory Flexibility Analysis Required: Yes.

Agency Contact: Dean R. Koppel, Phone: 202 205-7322, Fax: 202 481-1540, Email: dean.koppel@sba.gov.

RIN: 3245-AG22

419. Small Business Size and Status Integrity

Legal Authority: Pub. L. 111-240; sec 1341 and 1343

Abstract: These regulations address the intentional misrepresentations of small business status as a “presumption of loss against the Government.” In addition, the rule addresses the statutory requirement that no business may continue to certify itself as small on the System for Award Management (SAM) without first providing an annual certification.

Completed:

Action | Date | FR Cite
NPRM | 10/07/11 | 76 FR 62313
Final Rule | 06/28/13 | 78 FR 38811
Final Rule Effective | 08/27/13

Regulatory Flexibility Analysis Required: Yes.

Agency Contact: Dean R. Koppel, Phone: 202 205-7322, Fax: 202 481-1540, Email: dean.koppel@sba.gov.

RIN: 3245-AG23

[FR Doc. 2013-29643 Filed 1-6-14; 8:45 am]

BILLING CODE 8025-01-P